DEPARTMENT OF LABOR

Employment and Training Administration

[TA-W-82,129; TA-W-82,129A]

Boise White Paper, LLC, A Subsidiary of Boise Paper Holdings, LLC, Including On-Site Leased Workers From Guardsmark Security, Warner Enterprises, Utilizeit, Abb, Inc., Hamer Electric, Mitech, and Anne Elisabeth Elsey, St. Helens, OR; Boise White Paper, LLC, A Subsidiary of Boise Paper Holdings, LLC, Vancouver, WA; Amended Certification Regarding Eligibility To Apply for Worker Adjustment Assistance

In accordance with Section 223 of the Trade Act of 1974, as amended (“Act”), 19 U.S.C. 2273, the Department of Labor issued a Certification of Eligibility to Apply for Worker Adjustment Assistance on January 11, 2013, applicable to workers and former workers of Boise White Paper, LLC, a subsidiary of Boise Paper Holdings, LLC, St. Helens, Oregon (Boise-St.Helens). The Department's Notice of determination was published in the Federal Register on February 6, 2013 (78 FR 8590). Workers are engaged in activities related to the production of paper.

Based on information provided in a later-filed petition, the Department reviewed the certification for Boise-St. Helens.

New information provided by the company official revealed that the subject worker group includes workers at an affiliated Vancouver, Washington facility who supplied logistical and customer support services for Boise-St.Helens. Therefore, the Department is amending this certification to include workers of Boise White Paper, LLC, Vancouver, Washington (TA-W-82,129A).

The amended notice applicable to TA-W-82,129 is hereby issued as follows:

All workers of Boise White Paper, LLC, a subsidiary of Boise Paper Holdings, LLC, including on-site leased workers from Guardsmark Security, ABB, Inc., Warner Enterprises, UtilizeIT, Hamer Electric, MiTech, and Anne Elisabeth Elsey, St. Helens, Oregon (TA-W-82,129) and all workers of Boise White Paper, LLC, a subsidiary of Boise Paper Holdings, LLC, Vancouver, Washington (TA-W-82,129A), who became totally or partially separated from employment on or after November 2, 2011 through January 11, 2015, and all workers in the group threatened with total or partial separation from employment on January 11, 2013 through January 11, 2015, are eligible to apply for adjustment assistance under Chapter 2 of Title II of the Trade Act of 1974, as amended.

Signed in Washington, DC this 26th day of March, 2013.
Del Min Amy Chen,
Certifying Officer, Office of Trade Adjustment Assistance.

[FR Doc. 2013-08132 Filed 4-8-13; 8:45 am]

BILLING CODE 4510-FN-P